FEDERAL FINANCIAL INSTITUTIONS EXAMINATION COUNCIL

[Docket No. AS11-02]

Appraisal Subcommittee Notice of Meeting

AGENCY: Appraisal Subcommittee of the Federal Financial Institutions Examination Council.

ACTION: Notice of meeting.

Description: In accordance with Section 1104(b) of Title XI of the Financial Institutions Reform, Recovery, and Enforcement Act of 1989, as amended, notice is hereby given that the Appraisal Subcommittee (ASC) will meet in closed session:

Location: FDIC—L. William Seidman Center, 3501 Fairfax Drive, Room B3124, Arlington, VA 22226.

Date: January 12, 2011.

Time: Immediately following the ASC open session beginning at 11:15 a.m.

Status: Closed.

Matters To Be Considered: December 8, 2010 minutes—Closed Session. Preliminary discussion of State Compliance Reviews.

Dated: January 4, 2011.
James R. Park,
Executive Director.

[FR Doc. 2011-105 Filed 1-6-11; 8:45 am]

BILLING CODE P